DEPARTMENT OF HOMELAND SECURITY

[Docket No. DHS-2012-0063]

President's National Security Telecommunications Advisory Committee

AGENCY: National Protection and Programs Directorate, DHS.

ACTION: Committee Management; Notice of an Open Federal Advisory Committee Teleconference.

SUMMARY: The President's National Security Telecommunications Advisory Committee (NSTAC) will meet on Monday, November 5, 2012, via a conference call. The meeting will be open to the public.

DATES: The NSTAC will meet Monday, November 5, 2012, from 2:00 p.m. to 3:15 p.m. Please note that the meeting may close early if the committee has completed its business.

ADDRESSES: The meeting will be held via a conference call. For access to the conference bridge, contact Ms. Deirdre Gallop-Anderson by email at deirdre.gallop-anderson@hq.dhs.gov by 5:00 p.m. October 29, 2012.

To facilitate public participation, we are inviting public comment on the issues to be considered by the committee as listed in the SUPPLEMENTARY INFORMATION section below. Documents associated with the issues to be discussed during the conference will be available at www.ncs.gov/nstac for review by October 30, 2012. Written comments must be received by the NSTAC Designated Federal Officer no later than November 19, 2012, and may be submitted by any one of the following methods:

• Federal eRulemaking Portal: http://www.regulations.gov. Follow the instructions for submitting written comments.

• Email: NSTAC@hq.dhs.gov. Include the docket number in the subject line of the email message.

• Fax: (703) 235-4981.

• Mail: Alternate Designated Federal Officer, National Communications System, National Protection and Programs Directorate, Department of Homeland Security, 245 Murray Lane, Mail Stop 0615, Arlington, VA 20598-0615.

Instructions: All submissions received must include the words “Department of Homeland Security” and the docket number for this action. Comments received will be posted without alteration at www.regulations.gov, including any personal information provided.

Docket: For access to the docket, including all documents and comments received by the NSTAC, go to www.regulations.gov.

A public comment period will be held during the meeting on November 5, 2012, from 2:15 p.m. to 2:35 p.m. Speakers who wish to participate in the public comment period must register in advance no later than October 29, 2012, at 5:00 p.m. by emailing Deirdre Gallop-Anderson at deirdre.gallop-anderson@hq.dhs.gov. Speakers are requested to limit their comments to three minutes and will speak in order of registration as time permits. Please note that the public comment period may end before the time indicated, following the last call for comments.

FOR FURTHER INFORMATION CONTACT: Allen F. Woodhouse, NSTAC Alternate Designated Federal Officer, Department of Homeland Security, telephone (703) 235-4900.

SUPPLEMENTARY INFORMATION: Notice of this meeting is given under the Federal Advisory Committee Act (FACA), 5 U.S.C. App. (Pub. L. 92-463). The NSTAC advises the President on matters related to national security and emergency preparedness (NS/EP) telecommunications policy.

Agenda: The NSTAC members will receive an update on progress made to date by the Nationwide Public Safety Broadband Network (NPSBN) Subcommittee as well as an update regarding the work of the Secure Government Communications Subcommittee. The committee is not taking any action on the work of these subcommittees at this meeting. The NPSBN Subcommittee is currently examining any NS/EP policy that should be considered when facilitating priority access across a diverse community of potential users of the Nationwide Public Safety Broadband Network, particularly during NS/EP events. Additionally, they are reviewing policy changes that could possibly encourage the innovative evolution of NS/EP functions by or through the NPSBN. The Secure Government Communications Scoping Subcommittee is charged with examining how commercial-off-the-shelf technologies and private sector best practices can be used to secure unclassified communications between and among Federal civilian departments and agencies.

Additionally, NSTAC members will discuss and vote on their Executive Letter to the President regarding their review of the Department of Homeland Security's (DHS) National Cybersecurity and Communications Integration Center (NCCIC). This review was conducted June 2012—September 2012 and will provide the President with an assessment of whether the NCCIC has developed in ways consistent with previous NSTAC recommendations.

The FACA requires that notices of meetings of advisory committees be announced in the Federal Register 15 days prior to the meeting date. A notice of the meeting of the NSTAC is being published in the Federal Register with less than 15 days notice due to an effort to assure the accuracy and validity of the NSTAC meeting agenda and contents. NSTAC changes in leadership and stakeholder approval of the NSTAC meeting discussion points created a longer than usual adjudication process. Although the meeting notice was published in the Federal Register late, the agenda will be published on the NCS Web site: www.ncs.gov and an email will be sent out to the NSTAC Members.

Dated: October 19, 2012.
Allen F. Woodhouse,
Alternate Designated Federal Officer for the NSTAC.

[FR Doc. 2012-26325 Filed 10-25-12; 8:45 am]

BILLING CODE 4410-09-P